DEPARTMENT OF AGRICULTURE

Agricultural Marketing Service

[Docket Number FV-04-309]

United States Standards for Grades of Persian (Tahiti) Limes

AGENCY: Agricultural Marketing Service, USDA.

ACTION: Notice.

SUMMARY: The Agricultural Marketing Service (AMS), prior to undertaking research and other work associated with revising an official grade standard, is soliciting comments on a possible revision to revise the United States Standards for Grades of Persian (Tahiti) Limes. At a meeting in 2003 of the Fruit and Vegetable Industry Advisory Committee, AMS was asked to review all the fresh fruit and vegetable grade standards for usefulness in serving the industry and identify commodities that may be better served if the grade standards were revised. As a result, AMS has noted that the color, as well as the juice content requirements in the lime grade standards are complex and difficult to apply. Additionally, AMS is seeking comments regarding any other revisions of the grade standards that may be necessary to better serve industry.

DATES: Comments must be received by August 24, 2004.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240, fax (202) 720-8871, e-mail FPB.DocketClerk@usda.gov or comments may be sent electronically to the Federal eRulemaking portal at: http://www.regulations.gov. Comments should make reference to the dates and page number of this issue of the Federal Register and will be made available for public inspection in the above office during regular business hours. The United States Standards for Grades of Persian (Tahiti) Limes are available either through the address cited above or by accessing the Fresh Products Branch Web site at: http://www.ams.usda.gov/standards/stanfrfv.htm.

FOR FURTHER INFORMATION CONTACT: David L. Priester, at the above address or call (202) 720-2185, e-mail David.Priester@usda.gov.

SUPPLEMENTARY INFORMATION:

Background

At a meeting in 2003 of the Fruit and Vegetable Industry Advisory Committee, AMS was asked to review all the fresh fruit and vegetable grade standards for usefulness in serving the industry and to identify commodities that may be better served if the grade standards were revised. AMS has identified the U.S. Standards for Grades of Persian (Tahiti) Limes for possible revision. The current grade standards were last revised in 1958. AMS identified the color requirements in all the U.S. lime grades as being complex, and the juice content requirement of the U.S. No. 1 grade as being difficult to apply. There are color requirements for U.S. No. 1 and U.S. No. 2 grades, requiring three-fourths and one-half of the surface good green color respectively. The U.S. No. 1 grade, U.S. No. 2 grade and U.S. Combination grades may be further qualified to describe the color by adding the terms “Turning” or “Mixed Color” after the grade, i.e., “U.S. No. 2 Mixed Color.”

The U.S. No. 1 grade requires a juice content of not less than 42 percent by volume of the limes. To determine juice content it is necessary to measure the volume of a sample, then squeeze the juice from the sample and calculate the percentage of juice in the sample.

Both the color and juice content requirements have been in the grade standards for years, however, they are complex and cumbersome to determine. Therefore, AMS believes that changing these requirements is warranted to better serve the industry. However, prior to undertaking detailed work to develop the proposed standards for Persian (Tahiti) Limes, AMS is soliciting comments on the possible revision of the standards for grades of Persian (Tahiti) Limes and the probable impact on distributors, processors, and growers. Additionally, AMS is seeking comments regarding any other revisions that may be necessary to better serve the industry.

This notice provides for a 60-day comment period for interested parties to comment on the revision of the standards. Should AMS conclude that there is a need for the revision of the standards, the proposed revision will be published in the Federal Register with a request for comments in accordance with 7 CFR part 36.

Authority: 7 U.S.C. 1621-1627.

Dated: June 22, 2004.
Kenneth C. Clayton,
Associate Administrator, Agricultural Marketing Service.

[FR Doc. 04-14544 Filed 6-24-04; 8:45 am]

BILLING CODE 3410-02-P